ENVIRONMENTAL PROTECTION AGENCY

[ER-FRL-9033-2]

Environmental Impact Statements; Notice of Availability

Responsible Agency: Office of Federal Activities, General Information (202) 564-7146 or http://www.epa.gov/nepa.

Weekly receipt of Environmental Impact Statements (EISs)

Filed 05/08/2017 Through 05/12/2017

Pursuant to 40 CFR 1506.9

Notice

Section 309(a) of the Clean Air Act requires that EPA make public its comments on EISs issued by other Federal agencies. EPA's comment letters on EISs are available at: http://www.epa.gov/compliance/nepa/eisdata.html.

EIS No. 20170080, Final, USAF, OR, Proposed Establishment and Modification of Oregon Military Training Airspace, Review Period Ends: 06/19/2017, Contact: Kevin Marek 240-612-8855

EIS No. 20170081, Final, USDA, ID, Middle Fork Weiser River Landscape Restoration Project, Review Period Ends: 06/19/2017, Contact: Greg Lesch 208-253-0101

EIS No. 20170082, Final, NPS, CA, Scorpion Pier Replacement, Review Period Ends: 06/19/2017, Contact: Russell Galipeau 805-658-5108

EIS No. 20170083, Final, USFS, CA, Littlerock Reservoir Sediment Removal Project, Review Period Ends: 06/19/2017, Contact: Chinling Chen 626-574-5255

Amended Notices

EIS No. 20170061, Draft, APHIS, NAT, Determination of Non-regulated Status for Freeze Tolerant Eucalyptus Lines FTE 427 and FTE 435, Comment Period Ends: 07/05/2017, Contact: Cindy Eck 301-851-3892 Revision to FR Notice Published 04/21/2017; Extending the Comment Period from 06/05/2017 to 07/05/2017

Dated: May 16, 2017.
Dawn Roberts,
Management Analyst, NEPA Compliance Division, Office of Federal Activities.

[FR Doc. 2017-10235 Filed 5-18-17; 8:45 am]

BILLING CODE 6560-50-P